ENVIRONMENTAL PROTECTION AGENCY

[ER-FRL-8595-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 17, 2009 (74 FR 17860).

Draft EISs

EIS No. 20090026, ERP No. D-FTA-J59001-CO, East Corridor Project, Proposes Commuter Rail Transit from downtown Denver to International Airport (DIA), Denver, Adams, Arapahoe, Jefferson and Douglas Counties, CO.

Summary: EPA expressed environmental concerns about short term construction impacts of this project and other projects on minority and low-income populations. Rating EC2..

EIS No. 20090055, ERP No. D-AFS-J65533-CO, Gunnison Basin Federal Lands Travel Management Project, To Address Travel Management on Federal Lands within the Upper Gunnison Basin and North Fork Valley, Implementation, Gunnison, Delta, Hinsdale and Saguache Counties, CO.

Summary: EPA expressed environmental concerns about impacts to the Grand Mesa, Uncompahgre, and Gunnison National Forest from the federal lands travel management project. EPA recommended an environmentally preferable alternative with additional watershed mitigation measures. Rating EC2.

EIS No. 20090069, ERP No. D-AFS-J65535-00, Black Hills National Forest Travel Management Plan, Proposes to Designate Certain Roads and Trails Open to Motorized Travel, Custer, Fall River, Lawrence, Meade, Pennington Counties, SD and Crook and Weston Counties, WY.

Summary: EPA expressed environmental concerns about impacts to impaired waterbodies from stream crossings and erosion impacts. Rating EC2.

EIS No. 20090088, ERP No. D-BLM-J65536-UT, Greens Hollow Coal Lease Tract Project, Proposed Federal Coal Leasing and Subsequent Underground Coal Mining, Funding and Lease Application, Fishlake and Manti-La Sal National Forest, Sanpete and Sevier Counties, UT.

Summary: EPA expressed environmental concerns about impacts to ground water and perennial streams which could impact wetlands riparian vegetation and adversely affect dependent ecosystems. EPA requested additional information on existing air quality conditions, air quality impact projections, and air quality impact analysis. Rating EC2.

EIS No. 20090105, ERP No. D-AFS-J65558-MT, Lower West Fork Project, To Treat Units in and Adjacent to the Wildland-Urban-Interface (WUI) with Prescribed Fire, and Commercial and Pre-Commercial Thins, West Fork Ranger District, Bitterroot National Forest, Ravalli County, MT.

Summary: EPA expressed environmental concerns about the potential for erosion and soil and water quality impacts from ground based timber harvests. EPA recommended additional analysis and information to fully assess and mitigate all potential impacts. Rating EC2.

EIS No. 20090106, ERP No. D-AFS-J61115-SD, Slate Castle Project Area, Proposes to Implement Multiple Resource Management Actions, Mystic Ranger District, Black Hills National Forest, Pennington County, SD.

Summary: EPA expressed environmental concerns about impacts from any new road construction. EPA recommended NFS use the existing transportation network, and minimize or avoid new road construction. Rating EC1.

EIS No. 20090136, ERP No. D-USA-L11042-AK, U.S. Army Alaska (USARAK) Project, Proposes the Stationing and Training of Increased Aviation Assts, Fort Wainwright, Fairbanks, AK.

Summary: EPA expressed environmental concerns about impacts to air and water quality. EPA recommended additional analysis to adequately evaluate impacts to these resources. Rating EC2.

EIS No. 20090141, ERP No. D-USA-G11051-NM, White Sands Missile Range (WSMR), Development and Implementation of Range-Wide Mission and Major Capabilities, NM.

Summary: EPA does not object to the proposed project. Rating LO.

EIS No. 20090161, ERP No. D-AFS-J65541-MT, Marsh and Tarhead Allotment Management Plans, Proposes To Authorize Grazing of Livestock Under 10-year Permits, Lincoln Ranger district, Helena National Forest, Lewis and Clark County, MT.

Summary: EPA expressed environmental concerns about impacts to water quality, riparian and hydrologic condition and fisheries from increased grazing capacity. EPA recommended additional information to fully assess and mitigate all potential impacts of the management actions. Rating EC2.

EIS No. 20090079, ERP No. DR-AFS-J65470-MT, Cabin Gulch Vegetation Treatment Project, Restore Fire-Adapted Ecosystems, Existing and Desired Conditions, Townsend Ranger District, Helena National Forest, Broadwater County, MT.

Summary: EPA expressed environmental concerns about aquatic impacts and recommended additional analysis and information to fully assess and mitigate all potential impacts. Rating EC2.

EIS No. 20090109, ERP No. DS-AFS-J65499-UT, Pockets Resource Management Project, Additional Information on Analysis and Disclosure on the Effect of the PA and Alternatives on Three Unroaded and Undeveloped Areas Identified on a 2005 Draft Map, Proposes To Salvage Dead and Dying Spruce/Fir, Regenerate Aspen, and Manage Travel, Escalate Ranger District, Dixie National Forest, Garfield County, UT.

Summary: EPA does not object to the proposed project. Rating LO.

EIS No. 20090120, ERP No. DS-COE-L90019-WA, Commencement Bay “Reauthorization” of Dredged Material Management Program Disposal Site, Implementation, Central Puget Sound, Tacoma, WA.

Summary: EPA supported the proposed continuation of disposal operations. EPA expressed environmental concerns about the analysis of potential impacts to air quality and the potential impact of climate change on the project. Rating EC2.

EIS No. 20090139, ERP No. DS-AFS-J65009-00, PROGRAMMATIC—Kootenai, Idaho Panhandle, and Lolo National Forest Plan Amendments for Access Management Within the Selkirk and Cabinet-Yaak Grizzly Bear Recovery Zones, Alternative E Updated has been Identified as the Forest Service's Preferred Alternative, ID, WA, MT.

Summary: EPA does not object to the proposed action. Rating LO.

EIS No. 20090147, ERP No. DS-NSF-K99036-HI, Advanced Technology Solar Telescope Project, Issuing Special Use Permit To Operate Commercial Vehicles on Haeakala National Park Road During the Construction of Site at the University of Hawai'i Institute for Astronomy, Haleakala High Altitude Observatory (HO) Site, Island of Maui, HI.

Summary: EPA does not object to the proposed project. Rating LO.

Final EISs

EIS No. 20090000, ERP No. F-COE-E39074-FL, South Florida Water Management District (SFWMD) Project, Propose To Construct and Operate Stormwater Treatment Areas STAs) on Compartments B and C of the Everglades Agriculture Area, US Army COE Section 404 Permit, Palm Beach and Hendry Counties, FL.

Summary: EPA expressed environmental concerns about potential water quality impacts and the lack of wetland mitigation measures.

EIS No. 20090022, ERP No. F-AFS-J65520-WY, Off-Highway Vehicle (OHV) Route Designation Project, Proposing To Improve Management of Public Summer Motorized Use (May 1—November 30) by Designating Roads and Motorized Trails, Bridger-Teton National Forest, Buffalo, Jackson and Big Piney Ranger Districts, Teton, Lincoln and Sublette Counties, WY.

Summary: EPA expressed environmental concerns that alternative D is not as protective as alternative B, which has stronger environmental and resource protections.

EIS No. 20090099, ERP No. F-FHW-J40179-MT, US-212 Reconstruction Project, from Rockvale to Laurel, Proposes To Improve Safety for Local and Regional Traffic Area, Yellowstone and Carbon Counties, MT.

Summary: While EPA expressed environmental concerns about impacts to water quality and wetlands, EPA did support the preferred alternative since the preferred alternative had less adverse impacts.

EIS No. 20090116, ERP No. F-AFS-J65521-WY, Spruce Gulch Bark Beetle and Fuels Reduction Project, Proposes To Implement Bark Beetle-Related Salvage and Suppression Vegetative Treatments and Hazardous Fuels Abatement Treatments, Laramie Ranger District, Medicine Bow-Routt National Forests, Albany and Carbon Counties, WY.

Summary: EPA expressed environmental concerns about impacts to water quality and wildlife habitat from the proposed clearcutting silvicultural activities. EPA recommended a more accurate range of projections concerning clearcutting.

EIS No. 20090140, ERP No. F-NOA-E91024-00, Amendment 29 Reef Fish Fishery Management Plan, Effort Management in the Commercial Grouper and Tilefish Fisheries, Reducing Overcapacity, Gulf of Mexico.

Summary: While EPA has no objections to the proposed action, EPA did request clarification of EJ and demographic fisher's issues.

EIS No. 20090162, ERP No. F-SFW-K91015-CA, Cullinan Ranch Unit Restoration Project, Proposing a Restoration Plan for 1,500 Acres of Former Hayfield Farm Land, San Pablo Bay, Issuance of Permits and/or Approval from Section 7 Endangered Species Act and US Army COE Section 404 Permit, San Pablo Bay National Wildlife Refuge, Solano and Napa Counties, CA.

Summary: EPA concerns were addressed in the FEIS; therefore, EPA does not object to the proposed project.

EIS No. 20090167, ERP No. F-FAA-L40234-AK, Sitka Rocky Gutierrez Airport Master Plan, Improvements to the Runway Safety Area, Taxiway. Seaplane Pullout, Approach Lighting System, and the Seawall, US Army COE Section 10 and 404 Permits, NPDES Permit, AK.

Summary: EPA does not object to the proposed action.

EIS No. 20090184, ERP No. F-AFS-L65565-ID, Lakeview-Reeder Fuels Reduction Project, Proposed Fuels Reduction and Road Treatment Activities, Idaho Panhandle National Forests, Priest Lake Ranger District, Bonner County, ID.

Summary: No formal comment letter was sent to the preparing agency.

Dated: June 29, 2009.
Robert W. Hargrove,
Director, NEPA Compliance Division, Office of Federal Activities.

[FR Doc. E9-15692 Filed 7-1-09; 8:45 am]

BILLING CODE 6560-50-P